DEPARTMENT OF HEALTH AND HUMAN SERVICES

Administration for Children and Families

Proposed Information Collection Activity; Comment Request

Title: Phase II Evaluation Activities for Implementing a Next Generation Evaluation Agenda for the Chafee Foster Care Independence Program.

OMB No.: New Collection.

Description: The Administration for Children and Families (ACF), Office of Planning Research and Evaluation (OPRE) is proposing an information collection activity as part of the Phase II Evaluation Activities for Implementing a Next Generation Evaluation Agenda for the Chafee Foster Care Independence Program. The proposed information collection consists of site visits by staff from the Urban Institute and Chapin Hall at the University of Chicago to conduct formative evaluations of programs serving transition-age foster youth. The evaluations will include preliminary visits to discuss the evaluation process with program administrators. Then, the research team will conduct site visits to each program to speak with program leaders, partners and key stakeholders, front-line staff, and participants. These formative evaluations will determine programs' readiness for more rigorous evaluation in the future. The activities and products from this project will help ACF to fulfill their ongoing legislative mandate for program evaluation specified in the Foster Care Independence Act of 1999.

Respondents: Program leaders, partners and stakeholders, and front-line staff as well as young adults being served by the programs.

Annual Burden Estimates
Instrument | Total number of respondents | Annual number of respondents | Number of responses per respondent | Average burden hours per response | Annual burden hours
Discussion Guide for program leaders | 48 | 24 | 4 | 1 | 96
Discussion Guide for program partners and stakeholders | 80 | 40 | 2 | 1 | 80
Discussion Guide for program front-line staff | 128 | 64 | 1 | 1 | 64
Focus Group Guide for program participants | 200 | 100 | 1 | 2 | 200
Compilation and Submission of Administrative Data Files | 24 | 12 | 2 | 12 | 288

Estimated Total Annual Burden Hours: 728.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C St SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Certifying Officer.

[FR Doc. 2016-08715 Filed 4-14-16; 8:45 am]

BILLING CODE 4184-01-P